FEDERAL COMMUNICATIONS COMMISSION

Notice of Public Information Collection(s) Being Reviewed by the Federal Communications Commission for Extension Under Delegated Authority, Comments Requested

January 29, 2008.

SUMMARY: The Federal Communications Commission, as part of its continuing effort to reduce paperwork burden, invites the general public and other Federal agencies to take this opportunity to comment on the following information collection(s), as required by the Paperwork Reduction Act of 1995 (PRA), 44 U.S.C. Sections 3501—3520. An agency may not conduct or sponsor a collection of information unless it displays a current valid control number. No person shall be subject to any penalty for failing to comply with a collection of information subject to the PRA that does not display a valid control number. Comments are requested concerning: (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written PRA comments should be submitted on or before April 4, 2008. If you anticipate that you will be submitting comments, but find it difficult to do so within the period of time allowed by this notice, you should advise the contact listed below as soon as possible.

ADDRESSES: You may submit all PRA comments by e-mail or U.S. mail. To submit your comments by e-mail, send them to PRA@fcc.gov. To submit your comments by U.S. mail, send them to Leslie F. Smith, Federal Communications Commission, Room 1-C216, 445 12th Street, SW., Washington, DC 20554, or via the Internet to PRA@fcc.gov.

FOR FURTHER INFORMATION CONTACT: For additional information about the information collection(s), contact Leslie F. Smith via the Internet at PRA@fcc.gov or call (202) 418-0217.

SUPPLEMENTARY INFORMATION: OMB Control Number: 3060-1005.

Title: Numbering Resource Optimization—Phase 3.

Form Numbers: N/A.

Type of Review: Extension of a currently approved collection.

Respondents: Businesses or other for profit; State, local or tribal government.

Number of Respondents and Responses: 17 respondents; 17 responses.

Estimated Time per Response: 55-85 hours.

Obligation to Respond: Required to obtain or retain benefits.

Frequency of Response: On occasion reporting requirement; third party disclosure.

Total Annual Burden: 860 hours.

Annual Cost Burden: None.

Privacy Act Impact Assessment: No impacts.

Nature of Extent of Confidentiality: The Commission is not requesting that the respondents submit confidential information to the FCC. Respondents may, however, request confidential treatment for information they believe to be confidential under 47 CFR 0.459 of the Commission's rules.

Needs and Uses: In the Communications Act of 1934, as amended by the Telecommunications Act of 1996, the Federal Communications Commission (“Commission”) was given “exclusive jurisdiction over those portions of the North American Numbering Plan (NANP) that pertains to the United States.” To ensure that the numbering resources of the NANP continue to be used efficiently, the Commission requires that applications to state commissions from carriers must demonstrate that certain requirements are met before states grant any use of the safety valve mechanism. It also requires that State commissions seeking to implement service-specific and/or technology-specific area code overlays, must request delegated authority to do so. The information collected by the FCC and state commissions will be used to assist these regulatory bodies in their efforts to maximize the efficiency with which numbering resources in the NANP are utilized.

Federal Communications Commission.
Marlene H. Dortch,
Secretary.

[FR Doc. E8-1977 Filed 2-1-08; 8:45 am]

BILLING CODE 6712-01-P